DEPARTMENT OF THE TREASURY

Submission for OMB Review; Comment Request

February 11, 2016.

The Department of the Treasury will submit the following information collection request to the Office of Management and Budget (OMB) for review and clearance in accordance with the Paperwork Reduction Act of 1995, Public Law 104-13, on or after the date of publication of this notice.

DATES: Comments should be received on or before March 18, 2016 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Departmental Offices

OMB Control Number: 1505-0250.

Type of Review: Reinstatement without change of a previously approved collection.

Title: Application and Reports for the Direct Component and the Centers of Excellence Research Grants Program of the Gulf RESTORE Program.

Abstract: Authorized under the Resources and Ecosystems Sustainability, Tourist Opportunities, and Revived Economies of the Gulf Coast States Act (RESTORE) (P.L. 112-141), the Department of the Treasury is implementing several provisions of the Act, more specifically the Direct Component and the Centers of Excellence Research Grants Program. These programs require Treasury to make grants from the Gulf Coast Restoration Trust Fund to five States and certain counties and parishes impacted by the Deepwater Horizon Oil Spill. The information collection will be used to identify eligible recipients; determine the appropriate amount of funding; ensure compliance with applicable laws; track grantee progress, and report on the effectiveness of the program.

Affected Public: State, local, or tribal governments.

Estimated Total Annual Burden Hours: 6,864.

Brenda Simms,
Treasury PRA Clearance Officer.

[FR Doc. 2016-03209 Filed 2-16-16; 8:45 am]

BILLING CODE 4810-25-P